FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 019129NF.

Name: Affordable Shipping Services, L.L.C.

Address: 11100 Wilcrest Drive, Ste. H, Houston, TX 77099.

Date Revoked: April 25, 2009.

Reason: Surrendered license voluntarily.

License Number: 001530F.

Name: Colombo Services, Inc.

Address: 4000-A Airline Dr., Houston, TX 77022.

Date Revoked: May 7, 2009.

Reason: Failed to maintain a valid bond.

License Number: 019757N.

Name: D & C Logistics, Inc.

Address: 1999 W. Walnut St., Compton, CA 90220.

Date Revoked: June 5, 2009.

Reason: Failed to maintain a valid bond.

License Number: 018694F.

Name: Global Parcel System LLC.

Address: 8304 NW 30th Terr., Miami, FL 33122.

Date Revoked: April 11, 2009.

Reason: Failed to maintain a valid bond.

License Number: 001988F.

Name: Heg International Freight Forwarders, Inc.

Address: 5855 Naples Plaza, Ste. 202, Long Beach, CA 90803.

Date Revoked: June 6, 2009.

Reason: Failed to maintain a valid bond.

License Number: 016706F.

Name: Inter-Trade Liner Shipping Co., Inc.

Address: 2111 W. Crescent Ave., Ste. E, Anaheim, CA 94801.

Date Revoked: June 5, 2009.

Reason: Failed to maintain a valid bond.

License Number: 021444F.

Name: J & V International Shipping Corp.

Address: 806 Arcadia Ave., Ste. 4, Arcadia, CA 91007.

Date Revoked: June 5, 2009.

Reason: Failed to maintain a valid bond.

License Number: 016952N.

Name: Sunice Cargo Logistics, Inc.

Address: 550 W. Merrick Rd., Ste., #1, Valley Stream, NY 11580.

Date Revoked: June 11, 2009.

Reason: Failed to maintain a valid bond.

License Number: 016268N.

Name: Value-Plus Express, Inc.

Address: 118 W. Hazel St., Ste. C, Inglewood, CA 90302.

Date Revoked: June 5, 2009.

Reason: Failed to maintain a valid bond.

License Number: 013172F.

Name: Yung Hoon Kim dba Conex International.

Address: 20695 So. Western Ave., Ste. 136, Torrance, CA 90501.

Date Revoked: April 10, 2009.

Reason: Surrendered license voluntarily.

License Number: 020711F.

Name: Joeanne W. Leake dba J & L Export.

Address: 101 Ashford Circle, Summerville, SC 29485.

Date Revoked: June 27, 2009.

Reason: Failed to maintain a valid bond.

License Number: 021666F.

Name: South Florida Freight Forwarding, Inc.

Address: 330 SW 27th Ave., Ste. 605, Miami, FL 33135.

Date Revoked: June 27, 2009.

Reason: Failed to maintain a valid bond.

License Number: 018409N.

Name: Deans International Shipping Co., Inc.

Address: 217-21 Merrick Blvd., Laurelton, NY 11413.

Date Revoked: June 30, 2009.

Reason: Failed to maintain a valid bond.

Sandra L. Kusumoto,
Director, Bureau of Certification and Licensing.

[FR Doc. E9-16117 Filed 7-8-09; 8:45 am]

BILLING CODE 6730-01-P